DEPARTMENT OF TRANSPORTATION

Office of the Secretary

Aviation Proceedings, Agreements Filed the Week Ending October 29, 2004

The following Agreements were filed with the Department of Transportation under the provisions of 49 U.S.C. 412 and 414. Answers may be filed within 21 days after the filing of the application.

Docket Number: OST-04-19513.

Date Filed: October 27 2004.

Parties: Members of the International Air Transport Association.

Subject: CTC COMP 0507 dated 29 October 2004 Mail Vote 418—Resolution 004a—CTC12/23 Restriction of Applicability of Resolutions Intended effective date: 15 November 2004.

Docket Number: OST-2004-19544.

Date Filed: October 29, 2004.

Parties: Members of the International Air Transport Association.

Subject: PTC23 EUR-SASC0134 dated 2 November 2004 Mail Vote 419—Resolution 010b—Special Passenger Amending Resolution from India to Europe Intended effective date: 16 November 2004.

Andrea M. Jenkins,
Program Manager, Federal Register Liaison.

[FR Doc. 04-25411 Filed 11-15-04; 8:45 am]

BILLING CODE 4910-62-P